COMMISSION ON CIVIL RIGHTS

Agenda and Notice of Public Meetings of the Colorado Advisory Committee

Notice is hereby given, pursuant to the provisions of the rules and regulations of the U.S. Commission on Civil Rights (Commission), and the Federal Advisory Committee Act (FACA), that an orientation meeting and a planning meeting of the Colorado Advisory Committee to the Commission will convene at 10:00 a.m. (MDT) on Thursday, April 11, 2013, at Denver Place, 999 18th Street, South Terrace 2nd Floor Conference Room, Denver, CO 80202. The meetings are to conduct an orientation and for project planning.

Members of the public are entitled to submit written comments. The comments must be received in the regional office by Monday, May 13, 2013. Comments may be mailed to the Rocky Mountain Regional Office, U.S. Commission on Civil Rights, 999-18th Street, Suite 1380 South, Denver, CO 80202, faxed to 303-866-1050, or emailed to ebohor@usccr.gov. Persons who desire additional information may contact the Rocky Mountain Regional Office at 303-866-1040.

Persons needing accessibility services should contact the Rocky Mountain Regional Office at least 10 working days before the scheduled date of the meeting.

Records generated from this meeting may be inspected and reproduced at the Rocky Mountain Regional Office, as they become available, both before and after the meeting. Persons interested in the work of this advisory committee are advised to go to the Commission's Web site, www.usccr.gov, or to contact the Rocky Mountain Regional Office at the above phone number, email or street address.

The meetings will be conducted pursuant to the provisions of the rules and regulations of the Commission and FACA.

Dated in Washington, DC, on March 18, 2013.
David Mussatt,
Acting Chief, Regional Programs Coordination Unit.

[FR Doc. 2013-06556 Filed 3-21-13; 8:45 am]

BILLING CODE 6335-01-P